POSTAL REGULATORY COMMISSION

[Docket Nos. MC2025-759 and K2025-758; MC2025-760 and K2025-759; MC2025-761 and K2025-760; MC2025-762 and K2025-761; MC2025-763 and K2025-762; MC2025-764 and K2025-763; MC2025-765 and K2025-764; MC2025-766 and K2025-765; MC2025-767 and K2025-766; MC2025-768 and K2025-767; MC2025-769 and K2025-768; MC2025-771 and K2025-770; MC2025-772 and K2025-771; MC2025-773 and K2025-772; MC2025-774 and K2025-773; MC2025-775 and K2025-774; MC2025-776 and K2025-775; MC2025-777 and K2025-776; MC2025-778 and K2025-777; MC2025-779 and K2025-778; MC2025-780 and K2025-779; MC2025-781 and K2025-780; MC2025-782 and K2025-781; MC2025-783 and K2025-782; MC2025-784 and K2025-783; MC2025-785 and K2025-784; MC2025-786 and K2025-785; MC2025-787 and K2025-786; MC2025-788 and K2025-787; MC2025-789 and K2025-788; MC2025-790 and K2025-789; MC2025-791 and K2025-790; MC2025-792 and K2025-791]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 19, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-759 and K2025-758; Filing Title: USPS Request to Add Priority Mail Express, Priority Mail & USPS Ground Advantage Contract 1009 to the Competitive Product List and Notice of Filing Materials Under Seal; Filing Acceptance Date: December 11, 2024; Filing Authority: 39 U.S.C. 3642, 39 CFR 3035.105, and 39 CFR 3041.310; Public Representative: Samuel Robinson; Comments Due: December 19, 2024.

2. Docket No(s).: MC2025-760 and K2025-759; Filing Title: USPS Request to Add Priority Mail Express, Priority Mail & USPS Ground Advantage Contract 1010 to the Competitive Product List and Notice of Filing Materials Under Seal; Filing Acceptance Date: December 11, 2024; Filing Authority: 39 U.S.C. 3642, 39 CFR 3035.105, and 39 CFR 3041.310; Public Representative: Christopher Mohr; Comments Due: December 19, 2024.

3. Docket No(s).: MC2025-761 and K2025-760; Filing Title: USPS Request to Add Priority Mail Express, Priority Mail & USPS Ground Advantage Contract 1011 to the Competitive Product List and Notice of Filing Materials Under Seal; Filing Acceptance Date: December 11, 2024; Filing Authority: 39 U.S.C. 3642, 39 CFR 3035.105, and 39 CFR 3041.310; Public Representative: Christopher Mohr; Comments Due: December 19, 2024.

4. Docket No(s).: MC2025-762 and K2025-761; Filing Title: USPS Request to Add Priority Mail Express, Priority Mail & USPS Ground Advantage Contract 1012 to the Competitive Product List and Notice of Filing Materials Under Seal; Filing Acceptance Date: December 11, 2024; Filing Authority: 39 U.S.C. 3642, 39 CFR 3035.105, and 39 CFR 3041.310; Public Representative: Arif Hafiz; Comments Due: December 19, 2024.

5. Docket No(s).: MC2025-763 and K2025-762; Filing Title: USPS Request to Add Priority Mail Express, Priority Mail & USPS Ground Advantage Contract 1013 to the Competitive Product List and Notice of Filing Materials Under Seal; Filing Acceptance Date: December 11, 2024; Filing Authority: 39 U.S.C. 3642, 39 CFR 3035.105, and 39 CFR 3041.310; Public Representative: Christopher Mohr; Comments Due: December 19, 2024.

6. Docket No(s).: MC2025-764 and K2025-763; Filing Title: USPS Request to Add Priority Mail Express, Priority Mail & USPS Ground Advantage Contract 1014 to the Competitive Product List and Notice of Filing Materials Under Seal; Filing Acceptance Date: December 11, 2024; Filing Authority: 39 U.S.C. 3642, 39 CFR 3035.105, and 39 CFR 3041.310; Public Representative: Christopher Mohr; Comments Due: December 19, 2024.

7. Docket No(s).: MC2025-765 and K2025-764; Filing Title: USPS Request to Add Priority Mail & USPS Ground Advantage Contract 527 to the Competitive Product List and Notice of Filing Materials Under Seal; Filing Acceptance Date: December 11, 2024; Filing Authority: 39 U.S.C. 3642, 39 CFR 3035.105, and 39 CFR 3041.310; Public Representative: Arif Hafiz; Comments Due: December 19, 2024.

8. Docket No(s).: MC2025-766 and K2025-765; Filing Title: USPS Request to Add Priority Mail & USPS Ground Advantage Contract 528 to the Competitive Product List and Notice of Filing Materials Under Seal; Filing Acceptance Date: December 11, 2024; Filing Authority: 39 U.S.C. 3642, 39 CFR 3035.105, and 39 CFR 3041.310; Public Representative: Maxine Bradley; Comments Due: December 19, 2024.

9. Docket No(s).: MC2025-767 and K2025-766; Filing Title: USPS Request to Add Priority Mail Express, Priority Mail & USPS Ground Advantage Contract 1015 to the Competitive Product List and Notice of Filing Materials Under Seal; Filing Acceptance Date: December 11, 2024; Filing Authority: 39 U.S.C. 3642, 39 CFR 3035.105, and 39 CFR 3041.310; Public Representative: Maxine Bradley; Comments Due: December 19, 2024.

10. Docket No(s).: MC2025-768 and K2025-767; Filing Title: USPS Request to Add Priority Mail Express, Priority Mail & USPS Ground Advantage Contract 1016 to the Competitive Product List and Notice of Filing Materials Under Seal; Filing Acceptance Date: December 11, 2024; Filing Authority: 39 U.S.C. 3642, 39 CFR 3035.105, and 39 CFR 3041.310; Public Representative: Maxine Bradley; Comments Due: December 19, 2024.

11. Docket No(s).: MC2025-769 and K2025-768; Filing Title: USPS Request to Add Priority Mail Express, Priority Mail & USPS Ground Advantage Contract 1017 to the Competitive Product List and Notice of Filing Materials Under Seal; Filing Acceptance Date: December 11, 2024; Filing Authority: 39 U.S.C. 3642, 39 CFR 3035.105, and 39 CFR 3041.310; Public Representative: Almaroof Agoro; Comments Due: December 19, 2024.

12. Docket No(s).: MC2025-771 and K2025-770; Filing Title: USPS Request to Add Priority Mail Express, Priority Mail & USPS Ground Advantage Contract 1018 to the Competitive Product List and Notice of Filing Materials Under Seal; Filing Acceptance Date: December 11, 2024; Filing Authority: 39 U.S.C. 3642, 39 CFR 3035.105, and 39 CFR 3041.310; Public Representative: Almaroof Agoro; Comments Due: December 19, 2024.

13. Docket No(s).: MC2025-772 and K2025-771; Filing Title: USPS Request to Add Priority Mail Express, Priority Mail & USPS Ground Advantage Contract 1019 to the Competitive Product List and Notice of Filing Materials Under Seal; Filing Acceptance Date: December 11, 2024; Filing Authority: 39 U.S.C. 3642, 39 CFR 3035.105, and 39 CFR 3041.310; Public Representative: Almaroof Agoro; Comments Due: December 19, 2024.

14. Docket No(s).: MC2025-773 and K2025-772; Filing Title: USPS Request to Add Priority Mail Express, Priority Mail & USPS Ground Advantage Contract 1020 to the Competitive Product List and Notice of Filing Materials Under Seal; Filing Acceptance Date: December 11, 2024; Filing Authority: 39 U.S.C. 3642, 39 CFR 3035.105, and 39 CFR 3041.310; Public Representative: Jennaca Upperman; Comments Due: December 19, 2024.

15. Docket No(s).: MC2025-774 and K2025-773; Filing Title: USPS Request to Add Priority Mail Express, Priority Mail & USPS Ground Advantage Contract 1021 to the Competitive Product List and Notice of Filing Materials Under Seal; Filing Acceptance Date: December 11, 2024; Filing Authority: 39 U.S.C. 3642, 39 CFR 3035.105, and 39 CFR 3041.310; Public Representative: Jennaca Upperman; Comments Due: December 19, 2024.

16. Docket No(s).: MC2025-775 and K2025-774; Filing Title: USPS Request to Add Priority Mail Express, Priority Mail & USPS Ground Advantage Contract 1022 to the Competitive Product List and Notice of Filing Materials Under Seal; Filing Acceptance Date: December 11, 2024; Filing Authority: 39 U.S.C. 3642, 39 CFR 3035.105, and 39 CFR 3041.310; Public Representative: Jennaca Upperman; Comments Due: December 19, 2024.

17. Docket No(s).: MC2025-776 and K2025-775; Filing Title: USPS Request to Add Priority Mail Express, Priority Mail & USPS Ground Advantage Contract 1023 to the Competitive Product List and Notice of Filing Materials Under Seal; Filing Acceptance Date: December 11, 2024; Filing Authority: 39 U.S.C. 3642, 39 CFR 3035.105, and 39 CFR 3041.310; Public Representative: Gregory Stanton; Comments Due: December 19, 2024.

18. Docket No(s).: MC2025-777 and K2025-776; Filing Title: USPS Request to Add Priority Mail Express, Priority Mail & USPS Ground Advantage Contract 1024 to the Competitive Product List and Notice of Filing Materials Under Seal; Filing Acceptance Date: December 11, 2024; Filing Authority: 39 U.S.C. 3642, 39 CFR 3035.105, and 39 CFR 3041.310; Public Representative: Gregory Stanton; Comments Due: December 19, 2024.

19. Docket No(s).: MC2025-778 and K2025-777; Filing Title: USPS Request to Add Priority Mail & USPS Ground Advantage Contract 529 to the Competitive Product List and Notice of Filing Materials Under Seal; Filing Acceptance Date: December 11, 2024; Filing Authority: 39 U.S.C. 3642, 39 CFR 3035.105, and 39 CFR 3041.310; Public Representative: Gregory Stanton; Comments Due: December 19, 2024.

20. Docket No(s).: MC2025-779 and K2025-778; Filing Title: USPS Request to Add Priority Mail & USPS Ground Advantage Contract 530 to the Competitive Product List and Notice of Filing Materials Under Seal; Filing Acceptance Date: December 11, 2024; Filing Authority: 39 U.S.C. 3642, 39 CFR 3035.105, and 39 CFR 3041.310; Public Representative: Samuel Robinson; Comments Due: December 19, 2024.

21. Docket No(s).: MC2025-780 and K2025-779; Filing Title: USPS Request to Add Priority Mail Express, Priority Mail & USPS Ground Advantage Contract 1025 to the Competitive Product List and Notice of Filing Materials Under Seal; Filing Acceptance Date: December 11, 2024; Filing Authority: 39 U.S.C. 3642, 39 CFR 3035.105, and 39 CFR 3041.310; Public Representative: Samuel Robinson; Comments Due: December 19, 2024.

22. Docket No(s).: MC2025-781 and K2025-780; Filing Title: USPS Request to Add Priority Mail Express, Priority Mail & USPS Ground Advantage Contract 1026 to the Competitive Product List and Notice of Filing Materials Under Seal; Filing Acceptance Date: December 11, 2024; Filing Authority: 39 U.S.C. 3642, 39 CFR 3035.105, and 39 CFR 3041.310; Public Representative: Christopher Mohr; Comments Due: December 19, 2024.

23. Docket No(s).: MC2025-782 and K2025-781; Filing Title: USPS Request to Add Priority Mail Express, Priority Mail & USPS Ground Advantage Contract 1027 to the Competitive Product List and Notice of Filing Materials Under Seal; Filing Acceptance Date: December 11, 2024; Filing Authority: 39 U.S.C. 3642, 39 CFR 3035.105, and 39 CFR 3041.310; Public Representative: Elsie Lee-Robbins; Comments Due: December 19, 2024.

24. Docket No(s).: MC2025-783 and K2025-782; Filing Title: USPS Request to Add Priority Mail Express, Priority Mail & USPS Ground Advantage Contract 1028 to the Competitive Product List and Notice of Filing Materials Under Seal; Filing Acceptance Date: December 11, 2024; Filing Authority: 39 U.S.C. 3642, 39 CFR 3035.105, and 39 CFR 3041.310; Public Representative: Elsie Lee-Robbins; Comments Due: December 19, 2024.

25. Docket No(s).: MC2025-784 and K2025-783; Filing Title: USPS Request to Add Priority Mail Express, Priority Mail & USPS Ground Advantage Contract 1029 to the Competitive Product List and Notice of Filing Materials Under Seal; Filing Acceptance Date: December 11, 2024; Filing Authority: 39 U.S.C. 3642, 39 CFR 3035.105, and 39 CFR 3041.310; Public Representative: Katalin Clendenin; Comments Due: December 19, 2024.

26. Docket No(s).: MC2025-785 and K2025-784; Filing Title: USPS Request to Add Priority Mail Express, Priority Mail & USPS Ground Advantage Contract 1030 to the Competitive Product List and Notice of Filing Materials Under Seal; Filing Acceptance Date: December 11, 2024; Filing Authority: 39 U.S.C. 3642, 39 CFR 3035.105, and 39 CFR 3041.310; Public Representative: Maxine Bradley; Comments Due: December 19, 2024.

27. Docket No(s).: MC2025-786 and K2025-785; Filing Title: USPS Request to Add Priority Mail Express, Priority Mail & USPS Ground Advantage Contract 1031 to the Competitive Product List and Notice of Filing Materials Under Seal; Filing Acceptance Date: December 11, 2024; Filing Authority: 39 U.S.C. 3642, 39 CFR 3035.105, and 39 CFR 3041.310; Public Representative: Katalin Clendenin; Comments Due: December 19, 2024.

28. Docket No(s).: MC2025-787 and K2025-786; Filing Title: USPS Request to Add Priority Mail & USPS Ground Advantage Contract 531 to the Competitive Product List and Notice of Filing Materials Under Seal; Filing Acceptance Date: December 11, 2024; Filing Authority: 39 U.S.C. 3642, 39 CFR 3035.105, and 39 CFR 3041.310; Public Representative: Christopher Mohr; Comments Due: December 19, 2024.

29. Docket No(s).: MC2025-788 and K2025-787; Filing Title: USPS Request to Add Priority Mail Express, Priority Mail & USPS Ground Advantage Contract 1032 to the Competitive Product List and Notice of Filing Materials Under Seal; Filing Acceptance Date: December 11, 2024; Filing Authority: 39 U.S.C. 3642, 39 CFR 3035.105, and 39 CFR 3041.310; Public Representative: Almaroof Agoro; Comments Due: December 19, 2024.

30. Docket No(s).: MC2025-789 and K2025-788; Filing Title: USPS Request to Add Priority Mail Express, Priority Mail & USPS Ground Advantage Contract 1033 to the Competitive Product List and Notice of Filing Materials Under Seal; Filing Acceptance Date: December 11, 2024; Filing Authority: 39 U.S.C. 3642, 39 CFR 3035.105, and 39 CFR 3041.310; Public Representative: Jana Slovinska; Comments Due: December 19, 2024.

31. Docket No(s).: MC2025-790 and K2025-789; Filing Title: USPS Request to Add Priority Mail Express, Priority Mail & USPS Ground Advantage Contract 1034 to the Competitive Product List and Notice of Filing Materials Under Seal; Filing Acceptance Date: December 11, 2024; Filing Authority: 39 U.S.C. 3642, 39 CFR 3035.105, and 39 CFR 3041.310; Public Representative: Katalin Clendenin; Comments Due: December 19, 2024.

32. Docket No(s).: MC2025-791 and K2025-790; Filing Title: USPS Request to Add Priority Mail Express, Priority Mail & USPS Ground Advantage Contract 1035 to the Competitive Product List and Notice of Filing Materials Under Seal; Filing Acceptance Date: December 11, 2024; Filing Authority: 39 U.S.C. 3642, 39 CFR 3035.105, and 39 CFR 3041.310; Public Representative: Christopher Mohr; Comments Due: December 19, 2024.

33. Docket No(s).: MC2025-792 and K2025-791; Filing Title: USPS Request to Add Priority Mail & USPS Ground Advantage Contract 532 to the Competitive Product List and Notice of Filing Materials Under Seal; Filing Acceptance Date: December 11, 2024; Filing Authority: 39 U.S.C. 3642, 39 CFR 3035.105, and 39 CFR 3041.310; Public Representative: Maxine Bradley; Comments Due: December 19, 2024.

III. Summary Proceeding(s)

None. See Section II for public proceedings.

This Notice will be published in the Federal Register.

Mallory S. Richards,
Federal Register Liaison.

[FR Doc. 2024-29687 Filed 12-16-24; 8:45 am]

BILLING CODE 7710-FW-P